NATIONAL SCIENCE FOUNDATION

Proposal Review Panel for Materials Research; Notice of Meeting

In accordance with the Federal Advisory Committee Act (Pub. L. 92-463, as amended), the National Science Foundation (NSF) announces the following meeting:

Name and Committee Code: Proposal Review Panel for Materials Research—Site visit review of the National High Magnetic Field Laboratory (NHMFL) at Florida State University, Tallahassee, FL (#1203).

Date and Time: November 14, 2018; 7:30 a.m.-8:30 p.m.; November 15, 2018; 7:30 a.m.-5 p.m.

Place: NHMFL—Florida State University, 1800 E Paul Dirac Dr., Tallahassee, FL 32310.

Type of Meeting: Part-Open.

Contact Person: Dr. Leonard Spinu, Program Director, Division of Materials Research, National Science Foundation, 2415 Eisenhower Avenue, Alexandria, VA 22314; Telephone: (703) 292-2665.

Purpose of Meeting: Site visit to provide advice and recommendations concerning further support of the NHMFL.

Agenda

Wednesday, November 14, 2018

7:30 a.m.-4:15 p.m. Open—Review of the NHMFL

4:15 p.m.-8:30 p.m. Closed—Executive Session

Thursday, November 15, 2018

7:30 a.m.-9 a.m. Open—Review of the NHMFL

9 a.m.-5 p.m. Closed—Executive Session, Draft and Review Report

Reason for Closing: The work being reviewed during closed portions of the site visit includes information of a proprietary or confidential nature, including technical information; financial data, such as salaries and personal information concerning individuals associated with the project. These matters are exempt under 5 U.S.C. 552b(c), (4) and (6) of the Government in the Sunshine Act.

Dated: October 9, 2018.
Crystal Robinson,
Committee Management Officer.

[FR Doc. 2018-22286 Filed 10-12-18; 8:45 am]

BILLING CODE 7555-01-P